DEPARTMENT OF TRANSPORTATION

Federal Aviation Administration

Notice of Intent To Rule on Application To Impose and Use the Revenue From a Passenger Facility Charge (PFC) at Palm Beach International Airport, West Palm Beach, FL

AGENCY: Federal Aviation Administration (FAA), DOT.

ACTION: Notice of intent to rule on application.

SUMMARY: The FAA proposes to rule and invites public comment on the application to impose and use the revenue from a PFC at Palm Beach International Airport (PBIA) under the provisions of the Aviation Safety and Capacity Expansion Act of 1990 (Title IX of the Omnibus Budget Reconciliation Act of 1990) (Public Law 101-508) and part 158 of the Federal Aviation Regulations (14 CFR part 158).

DATES: Comments must be received on or before July 24, 2000.

ADDRESSES: Comments on this application may be mailed or delivered in triplicate to the FAA at the following address: Orlando Airports District Office, 5950 Hazeltine National Drive, Suite 400, Orlando, Florida 32822.

In addition, one copy of any comments submitted to the FAA must be mailed or delivered to Mr. Bruce V. Pelly, Director of Airports of the Palm Beach County, Department of Airports at the following address: Palm Beach County, Department of Airports, Building 846, Palm Beach International Airport, West Palm Beach Florida 33406.

Air carriers and foreign air carriers may submit copies of written comments previously provided to the Palm Beach County, Department of Airports under section 158.23 of part 158.

FOR FURTHER INFORMATION CONTACT: Vernon P. Rupinta, Program Manager, Orlando Airports District Office, 5950 Hazeltine National Drive, Suite 400, Orlando, Florida 32822, (407) 812-6331, extension 24. The application may be reviewed in person at this same location.

SUPPLEMENTARY INFORMATION: The FAA proposes to rule and invites public comment on the application to impose and use the revenue from a PFC at PBIA under the provisions of the Aviation Safety and Capacity Expansion Act of 1990 (Title IX of the Omnibus Budget Reconciliation Act of 1990) (Public Law 101-508) and part 158 of the Federal Aviation Regulations (14 CFR part 158).

On June 14, 2000, the FAA determined that the application to impose and use the revenue from a PFC submitted by Palm Beach County was substantially complete within the requirements of section 158.25 of Part 158. The FAA will approve or disapprove the application, in whole or in part, no later than September 30, 2000.

The following is a brief overview of the application.

PFC Application No.: 00-05-C-00-PBI.

Level of the proposed PFC: $3.00.

Proposed charged effective date: December 1, 2000.

Proposed charge expiration date: November 30, 2005.

Total estimated net PFC revenue: $37,324,000.

Brief description of proposed project(s): Construct Concourse “B” Expansion, Baggage Improvements and Rehabilitation, Construct Taxiway “A” and Canal Relocation, Construct Perimeter Road, Terminal Signage, Rehabilitate Cabin Air System (Terminal), Acquire Noise Land within 65-69 DNL, Expand Terminal Concourse “C”

Class or classes of air carriers which the public agency has requested not be required to collect PFCs: Air Taxi/Commercial Operators filing FAA Form 1800-31.

Any person may inspect the application in person at the FAA office listed above under FOR FURTHER INFORMATION CONTACT.

In addition, any person may, upon request, inspect the application, notice and other documents germane to the application in person at the Palm Beach County, Department of Airports.

Issued in Orlando, Florida on June 14, 2000.
W. Dean Stringer,
Manager, Orlando Airports District Office, Southern Region.

[FR Doc. 00-15810 Filed 6-21-00; 8:45 am]

BILLING CODE 4910-13-M